DEPARTMENT OF EDUCATION

Applications for New Awards; Opportunity Scholarship Program; Corrections

AGENCY: Office of Elementary and Secondary Education, Department of Education.

ACTION: Notice; corrections.

SUMMARY: On April 23, 2025, the Department of Education (Department) published in the Federal Register a notice inviting applications (NIA) for the fiscal year (FY) 2025 District of Columbia Opportunity Scholarship Program competition. The Department is correcting the NIA by revising the deadline date for transmittal of applications, together with the intergovernmental review deadline. All other information in the NIA remains the same.

DATES: These corrections are applicable on May 2, 2025.

FOR FURTHER INFORMATION CONTACT: Beth Yeh, U.S. Department of Education, 400 Maryland Avenue SW, Washington, DC 20202-5960. Telephone: (202) 205-5798. Email: beth.yeh@ed.gov.

If you are deaf, hard of hearing, or have a speech disability and wish to access telecommunications relay services, please dial 7-1-1.

SUPPLEMENTARY INFORMATION: On April 23, 2025, the Department published in the Federal Register an NIA for the FY 2025 District of Columbia Opportunity Scholarship Program competition. The Department is correcting the NIA by revising the deadline date for transmittal of applications and the deadline date for intergovernmental review. All other information in the NIA remains the same.

If an applicant has already submitted an application, the Department will use the application that was submitted. If a new application is submitted, the Department will consider the application that is last submitted and timely received by 11:59:59 p.m., Eastern Time, on June 2, 2025.

Program Authority: Scholarships for Opportunity and Results (SOAR) Act, as amended; DC Code section 38-1853.01-.14).

Corrections

In FR Doc. 2025-07024, published in the Federal Register on April 23, 2025 (90 FR 17054), we make the following corrections:

On page 17054, in the first column, revise the text under DATES to read as follows:

Applications Available: April 23, 2025.

Deadline for Transmittal of Applications: June 2, 2025.

Deadline for Intergovernmental Review: July 31, 2025.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site. You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-07567 Filed 5-1-25; 8:45 am]

BILLING CODE 4000-01-P